DEPARTMENT OF COMMERCE

National Oceanic and Atmospheric Administration

Science Advisory Board

AGENCY: Office of Oceanic and Atmospheric Research, National Oceanic and Atmospheric Administration, Department of Commerce.

ACTION: Notice of open meeting.

SUMMARY: The NOAA Science Advisory Board (SAB) was established by a Decision Memorandum dated September 25, 1997, and is the only Federal Advisory Committee with responsibility to advise the Under Secretary of Commerce for Oceans and Atmosphere on long- and short-range strategies for research, education, and application of science to resource management and environmental assessment and prediction. SAB activities and advice provide necessary input to ensure that science programs are of the highest quality and provide optimal support the NOAA mission.

Time and Date: The meeting will be held Tuesday, March 22, 2005, from 10:15 a.m. to 5:45 p.m. and Wednesday, March 23, 2005, from 10 a.m. to 3 p.m. These times and the agenda topics described below may be subject to change. Refer to the Web page listed below for the most up-to-date meeting agenda.

Place: The meeting will be held both days in the Staff Auditorium at the National Geographic Society Headquarters, 1145 17th Street, NW., Washington, DC.

Status: The meeting will be open to public participation with a 30-minute time period set aside on Wednesday, March 23, 2005, for direct oral statements or questions from the public. The SAB expects that public statements presented at its meetings will not be repetitive of previously submitted oral or written statements. In general, each individual or group making an oral presentation will be limited to a total time of five (5) minutes. Approximately thirty (30) seats will be available for the public including five (5) seats reserved for the media. Seats will be available on a first-come, first-served basis.

Matters to be Considered: The meeting will include the following topics: (1) Status of NOAA Responses to SAB Actions and Recommendations Overview of NOAA Response to SAB/ Research Review Team Report; (2) Review NOAA's Draft Policy to Formalize the Transition of Research to Operations and Information Services; (3) Progress Reports: External Ecosystem Task Team and the Physical and Social Science Task Team; (4) Draft NOAA Cooperative Institute Policy; (5) Report on the Review of the National Sea Grant College Extension Program and a Call for Greater National Commitment to Engagement; (6) Administration Response to Ocean Commission Report; (7) NOAA's plans for the International Polar Year (IPY); (8) Briefing on the Integrated Surface Observing System (ISOS) Working Group; (9) Transitioning from the Integrated Ocean Observing System, NPOESS, GOES-R, NEXRAD, etc. to Integrated Earth Observing System (IEOS); (10) NOAA Role in Implementing the President's Executive Order on the Great Lakes; (11) Overview of Predictions/Monitoring of 2004 Hurricanes (12) Tsunamis—Research and Observations; (13) Global Earth Observing Systems of Systems (GEOSS) Update; (14) 2006-2011 Strategic planning; (15) public statements.

FOR FURTHER INFORMATION CONTACT: Dr. Michael Uhart, Executive Director, Science Advisory Board, NOAA, Rm. 11142, 1315 East-West Highway, Silver Spring, Maryland 20910. (Phone: 301-713-9121, Fax: 301-713-3515, e-mail: Michael.Uhart@noaa.gov); or visit the NOAA SAB Web site at http://www.sab.noaa.gov.

Dated: March 10, 2005.
Louisa Koch,
Deputy Assistant Administrator, Office of Oceanic and Atmospheric Research, National Oceanic and Atmospheric Administration.

[FR Doc. 05-5118 Filed 3-15-05; 8:45 am]

BILLING CODE 3510-KD-P